DEPARTMENT OF HOMELAND SECURITY

U.S. Citizenship and Immigration Services

Agency Information Collection Activities: Form I-824; Extension of an Existing Information Collection; Comment Request

ACTION: 30-Day Notice of Information Collection Under Review; Form I-824; Application for Action on an Approved Application.

The Department of Homeland Security, U.S. Citizenship and Immigration Services (USCIS) will be submitting the following information collection request to the Office of Management and Budget (OMB) for review and clearance in accordance with the Paperwork Reduction Act of 1995. An information collection notice was previously published in the Federal Register on February 28, 2012 at 77 FR 12072, allowing for a 60-day public comment period. USCIS did not receive any comments in connection with that publication.

The purpose of this information collection notice is to allow for an additional 30 days for public comments. Comments are encouraged and will be accepted until June 8, 2012. This process is conducted in accordance with 5 CFR 1320.10.

Written comments and/or suggestions regarding the item(s) contained in this notice, especially regarding the estimated public burden and associated response time, should be directed to the Department of Homeland Security (DHS), and to the Office of Management and Budget (OMB) USCIS Desk Officer. Comments may be submitted to: USCIS, Chief Regulatory Coordinator, Regulatory Coordination Division, Office of Policy and Strategy, Clearance Office, 20 Massachusetts Avenue NW., Washington, DC 20529. Comments may also be submitted to DHS via facsimile to 202-272-8518 or via email at uscisrfrcomment@dhs.gov, to the OMB USCIS Desk Officer via facsimile at 202-395-5806 or via email at oira_submission@omb.eop.gov. When submitting comments by email please make sure to add OMB Control Number 1615-0044 in the subject box.

Written comments and suggestions from the public and affected agencies should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of an existing information collection.

(2) Title of the Form/Collection: Application for Action on an approved Application or Petition.

(3) Agency form number, if any, and the applicable component of the Department of Homeland Security sponsoring the collection: Form I-824; U.S. Citizenship and Immigration Services (USCIS).

(4) Affected public who will be asked or required to respond, as well as a brief abstract: Primary: Individuals or households. Form I-824 is used to request a duplicate approval notice, or to notify the U.S. Consulate that a petition has been approved or that a person has been adjusted to permanent resident status.

(5) An estimate of the total number of respondents and the amount of time estimated for an average respondent to respond: 20,961 responses at .416 hours (25 minutes) per response.

(6) An estimate of the total public burden (in hours) associated with the collection: 8,607 annual burden hours.

If you need a copy of the information collection instrument, please visit the Web site at: http://www.regulations.gov/.

We may also be contacted at: USCIS, Regulatory Coordination Division, 20 Massachusetts Avenue NW., Washington, DC 20529, Telephone number 202-272-1470.

Dated: May 3, 2012.
Laura Dawkins,
Acting Chief Regulatory Coordinator, Regulatory Coordination Division, Office of Policy and Strategy, U.S. Citizenship and Immigration Services, Department of Homeland Security.

[FR Doc. 2012-11126 Filed 5-8-12; 8:45 am]

BILLING CODE 9111-97-P